DEPARTMENT OF HOUSING AND URBAN DEVELOPMENT

[Docket No. FR-4565-N-20]

Notice of Proposed Information Collection: Comment Request; Certificate of Need (CoN) for Health Facility and Assurance of Enforcement of State Standards

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: October 16, 2000.

ADDRESSES: Interested persons are invited to submit comments regarding this proposal. Comments should refer to the proposal by name and/or OMB Control Number and should be sent to: Wayne Eddins, Reports Management Officer, Department of Housing and Urban Development, 451 7th Street, SW., L'Enfant Building, Room 8202, Washington, D.C. 20410, telephone (202) 708-5221 this is not a toll-free number) for copies of the proposed forms and other available information.

FOR FURTHER INFORMATION CONTACT: Willie Spearmon, Office of Housing Assistance and Grants Administration, Participation Division, Department of Housing and Urban Development, 451 7th Street, SW., Washington, DC 20410, telephone number (202) 708-3000 (this is not a foll-free number) for copies of the proposed forms and other available.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Certificate of Need (CoN) for Health Facility and Assurance of Enforcement of State Standards.

OMB Control Number, if applicable: 2502-0201.

Description of the need for the information and proposed use: This Notice requests an extension of the use of Form HUD-2576-HF, Certificate of Need for Health Facility and Assurance of Enforcement of State Standards, as authorized by Sections 232, 242 of the National Housing Act. These certifications are prepared by the State Agencies designated in accordance with Section 604(a)(1) or Section 1521 of the Public Health Service Act. Sections 232 and 242 require State certification that there is a need for the facility, that there are minimum standards of licensing and for operating the project, and that the standards will be enforced for the insured project.

Agency form numbers, if applicable: HUD-2576-HF.

Estimation of the total numbers of hours needed to prepare the information collection including number of respondents, frequency of responses, and hours of response: The number of respondents is 50; the frequency of responses is 1 per year; estimated time to prepare form is approximately 12 minutes (.20 hour), and the estimated total annual burden hours are 10.

Status of the proposed information collection: Reinstatement with change.

Authority: The Paperwork Reduction Act of 1995, 44 U.S.C., Chapter 35, as amended.

Dated: August 10, 2000.
William C. Apgar,
Assistant Secretary for Housing-Federal Housing Commissioner.

[FR Doc. 00-20805 Filed 8-15-00; 8:45 am]

BILLING CODE 8010-01-M